POSTAL SERVICE

Notice of Availability of Draft Supplemental Environmental Impact Statement for Next Generation Delivery Vehicles Acquisitions

Pursuant to the requirements of the National Environmental Policy Act (NEPA) of 1969, the Council on Environmental Quality's regulations implementing NEPA (40 CFR parts 1500-1508), and the Postal Service's regulations for NEPA compliance set forth at 39 CFR part 775, the U.S. Postal Service announces availability of the Draft Supplemental Environmental Impact Statement (SEIS) which analyzes the environmental impacts of a range of alternatives for a modification to the Postal Service's February 23, 2022, Record of Decision (ROD) to purchase, over ten years, 50,000 to 165,000 purpose-built, right-hand drive vehicles—the Next Generation Delivery Vehicle (NGDV)—to replace existing delivery vehicles nationwide that are beyond the end of their service life. A minimum of 10 percent of those vehicles would be battery electric vehicles (BEVs).

As our Preferred Alternative, the Postal Service proposes in this Draft SEIS to modify the current ROD in three primary ways: (1) substantially increase the minimum BEV commitment to 62 percent, (2) reduce the total number of vehicles proposed for purchase at this time to 106,480, purchased over six years, and (3) include a mix of both NGDV and commercial-off-the-shelf (COTS) vehicles. This Draft SEIS also analyzes an NGDV-only Alternative with 62 percent BEV commitment, purchased over eight years, as well as a “No-Action” Alternative, which would proceed with the existing decision under the ROD.

The Postal Service is soliciting comments on the Draft SEIS during a 45-day public comment period. Comments should be received no later than August 14, 2023.

In addition, the Postal Service will also conduct a virtual public hearing on July 26, 2023. Registration information will be made available 15 days prior to the hearing date at the following website: http://uspsngdveis.com/.

Interested parties may view the Draft SEIS and the prior NGDV ROD at http://uspsngdveis.com/. Interested parties may mail or deliver written comments, containing the name and address of the commenter, to: Mr. Davon Collins, Environmental Counsel, United States Postal Service, 475 L'Enfant Plaza SW, Office 6606, Washington, DC 20260-6201, or at NEPA@usps.gov. Note that comments sent by mail may be subject to delay due to Federal security screening. Faxed comments are not accepted. All submitted comments and attachments are part of the public record and subject to disclosure. Do not enclose any material in your comments that you consider confidential or inappropriate for public disclosure.

References

1. U.S. Postal Service, Notice of Availability of Record of Decision, Next Generation Delivery Vehicles Acquisitions (87 FR 14588; Mar. 15, 2022).

2. U.S. Postal Service, Notice of Intent to Prepare a Supplement to the Next Generation Delivery Vehicles Acquisitions Final Environmental Impact Statement (87 FR 35581; June 10, 2022).

3. U.S. Postal Service, Notice to Postpone Public Hearing and Extend Public Comment Period for Supplement to the Next Generation Delivery Vehicles Acquisitions Final Environmental Impact Statement (87 FR 43561; July 21, 2022).

Sarah Sullivan,
Attorney, Ethics & Legal Compliance.

[FR Doc. 2023-13941 Filed 6-29-23; 8:45 am]

BILLING CODE P